DEPARTMENT OF STATE

[Public Notice: 11348]

Advisory Committee on Historical Diplomatic Documentation—Notice of Virtual Open Meeting for March 1, 2021

The Advisory Committee on Historical Diplomatic Documentation will meet on March 1 in a virtual open session to discuss the status of the production of the Foreign Relations series and any other matters of concern to the Committee.

The Committee will meet in open session from 10:00 a.m. until noon through a virtual platform TBD. Members of the public planning to attend the virtual meeting should RSVP to Julie Fort at FortJL@state.gov. RSVP and requests for reasonable accommodation should be sent not later than February 19, 2021. The platform type and instructions on how to join the virtual meeting will be provided upon receipt of RSVP. Note that requests for reasonable accommodation received after February 19 will be considered but might not be possible to fulfill.

Questions concerning the meeting should be directed to Adam M. Howard, Executive Secretary, Advisory Committee on Historical Diplomatic Documentation, Department of State, Office of the Historian, Washington, DC 20372, history@state.gov.

Zachary A. Parker,
Director, Office of Directives Management, Department of State.

[FR Doc. 2021-02370 Filed 2-4-21; 8:45 am]

BILLING CODE 4710-34-P